DEPARTMENT OF DEFENSE

Defense Acquisition Regulations System

48 CFR Parts 204 and 252

RIN 0750-AG47

Defense Federal Acquisition Regulation Supplement; Safeguarding Unclassified DoD Information (DFARS Case 2011-D039)

AGENCY: Defense Acquisition Regulations System, Department of Defense (DoD).

ACTION: Notice of meeting cancellation.

SUMMARY: On October 28, 2011 (76 FR 66889), DoD gave notice of a public meeting to be held on November 15, 2011, from 9:30 a.m. to 12 p.m. EST at the General Services Administration (GSA), Central Office Auditorium. This meeting has been cancelled and may be rescheduled at a later date after review and evaluation of public comments received. Public comments should still be submitted by December 16, 2011 using one of the methods discussed under the section below titled ADDRESSES.

DATES: Submission of Comments: Comments on the proposed rule should be submitted in writing to the address shown below on or before December 16, 2011, to be considered in the formation of the rule.

ADDRESSES: Submission of Comments: You may submit written comments, identified by DFARS Case 2011-D039, using any of the following methods:

• Regulations.gov: http://www.regulations.gov. Submit comments via the Federal eRulemaking portal by inputting “DFARS Case 2011-D039” under the heading “Enter keyword or ID” and selecting “Search.” Select the link “Submit a Comment” that corresponds with “DFARS Case 2011-D039.” Follow the instructions provided at the “Submit a Comment” screen. Please include your name, company name (if any), and “DFARS Case 2011-D039” on your attached document.

• Email: dfars@osd.mil. Include DFARS Case 2011-D039 in the subject line of the message.

• Fax: (703) 602-0350.

• Mail: Defense Acquisition Regulations System, Attn: Mr. Julian Thrash, OUSD (AT&L) DPAP (DARS), Room 3B855, 3060 Defense Pentagon, Washington, DC 20301-3060.

Comments received generally will be posted without change to http://www.regulations.gov, including any personal information provided. To confirm receipt of your comment, please check http://www.regulations.gov approximately two to three days after submission to verify posting (except allow 30 days for posting of comments submitted by mail).

FOR FURTHER INFORMATION CONTACT: Mr. Julian E. Thrash, telephone (703) 602-0310.

List of Subjects in 48 CFR Parts 204 and 252

Government procurement.

Mary Overstreet,
Editor, Defense Acquisition Regulations System.

[FR Doc. 2011-29132 Filed 11-9-11; 8:45 am]

BILLING CODE 5001-06-P